DEPARTMENT OF COMMERCE

National Oceanic and Atmospheric Administration

National Marine Protected Areas Center External Review

AGENCY: National Oceanic and Atmospheric Administration (NOAA), Department of Commerce.

ACTION: Request for public comment.

SUMMARY: On May 26, 2000, President Clinton signed Executive Order (EO) 13158, directing federal agencies (led by NOAA and DOI) to establish a comprehensive national system of MPAs serving multiple conservation and management goals. To this end, the EO directs NOAA to establish a National Marine Protected Area Center (“MPA Center”) within NOAA (Sec. 4(e)) to carry out several provisions in cooperation with the Department of the Interior. Over the past decade, the MPA Center has conducted a variety of efforts to establish and support the growing national system through targeted science, information resources, coordination and policy development.

An external review of the MPA Center is needed to maximize its effectiveness and transparency and to ensure that the MPA Center is conducting high quality work of significant value to NOAA and the nation. To this end, the MPA Center is seeking external feedback, including public comment on the program's approach to balancing competing priorities.

All comments received in response to this request will be summarized and provided to an expert review panel scheduled to convene in late January, 2012.

DATES: Written comments must be submitted on or before January 10, 2012.

ADDRESSES: This announcement contains guidance on how to provide feedback, including some of the questions for which the MPA Center is seeking comment. The questions are also available for download via the Internet on the MPA Center Web site at: http://www.mpa.gov/aboutmpas/mpacenter/. You may submit comments electronically via email to mpa.comments@noaa.gov. You may also submit comments in writing to: National Marine Protected Areas Center, c/o Denise Ellis-Hibbett, 1305 East-West Highway, Rm. 11401, Silver Spring, Maryland 20910.

FOR FURTHER INFORMATION CONTACT: Denise Ellis-Hibbett by mail at 1305 East-West Highway, Rm. 11401, Silver Spring, Maryland 20910 or phone: (301) 563-1195 or email: denise.ellis-hibbett@noaa.gov or visit the MPA Center Web site at http://www.mpa.gov

SUPPLEMENTARY INFORMATION: The MPA Center's external review will encompass program activities between 2000 and 2011. An independent, external panel of four experts in subject matter of the MPA Center's program focus will convene for a three day meeting in late January, 2012 to review materials and information about the MPA Center, develop findings and make recommendations. The program is seeking input on the questions listed below. Please note that you do not need to address all questions, and the MPA Center welcomes additional input on topics not covered in the questions listed.

Although the MPA Center is most interested in obtaining feedback based on the public's interaction and experience with the Center, background information concerning the MPA Center and its activities is available from the MPA Center Web site at http://mpa.gov.

The MPA Center is seeking input on the following questions:

• Is the MPA Center focusing on the most important activities to fulfill its goals and objectives (Build and maintain the national system of MPAs; Improve MPA stewardship and effectiveness; Facilitate international, national and regional coordination of MPAs activities)?

• How successfully has the MPA Center addressed the requirements of Executive Order 13158?

• Is the MPA Center providing the necessary leadership to strengthen and expand the national system of MPAs?

• Are resources (human and financial) allocated appropriately to effectively address the goals and objectives of the MPA Center?

• How effective has the MPA Center been in solidifying public/private partnerships and engaging stakeholders to support efficient management of MPAs and MPA networks?

• Should the MPA Center change its priorities or activities to more effectively meet the requirements of Executive Order 13158? If so, how?

An electronic version of these questions is available at: http://www.mpa.gov/aboutmpas/mpacenter/.(Optional) When you submit your comments, you are welcome to provide background information about yourself, such as your organization(s), area(s) of expertise, and experience with the MPA Center. This information will be compiled and summarized with the comments.

Dated: November 18, 2011.
Donna Wieting,
Director, Office of Ocean and Coastal Resource Management, National Ocean Service, National Oceanic Atmospheric Administration.

[FR Doc. 2011-30700 Filed 11-30-11; 8:45 am]

BILLING CODE P